DEPARTMENT OF TRANSPORTATION

Federal Motor Carrier Safety Administration

[Docket No. FMCSA-2025-0027]

Qualification of Drivers; Exemption Applications; Hearing

AGENCY: Federal Motor Carrier Safety Administration (FMCSA), Department of Transportation (DOT).

ACTION: Notice of applications for exemption; request for comments.

SUMMARY: FMCSA announces receipt of applications from 37 individuals for an exemption from the hearing requirement in the Federal Motor Carrier Safety Regulations (FMCSRs) to operate a commercial motor vehicle (CMV) in interstate commerce. If granted, the exemptions would enable these hard of hearing and deaf individuals to operate CMVs in interstate commerce.

DATES: Comments must be received on or before February 27, 2026.

ADDRESSES: You may submit comments identified by Docket No. FMCSA-2025-0027 using any of the following methods:

• Federal eRulemaking Portal: Go to www.regulations.gov, insert the docket number (FMCSA-2025-0027) in the keyword box and click “Search.” Next, choose the only notice listed, and click on the “Comment” button. Follow the online instructions for submitting comments.

• Mail: Dockets Operations; U.S. Department of Transportation, 1200 New Jersey Avenue SE, West Building Ground Floor, Washington, DC 20590-0001.

• Hand Delivery: West Building Ground Floor, 1200 New Jersey Avenue SE, Washington, DC 20590-0001 between 9 a.m. and 5 p.m. ET Monday through Friday, except Federal Holidays.

• Fax: (202) 493-2251.

To avoid duplication, please use only one of these four methods. See the “Public Participation” portion of the SUPPLEMENTARY INFORMATION section for instructions on submitting comments.

FOR FURTHER INFORMATION CONTACT: Ms. Christine Hydock, Chief, Medical Programs Division, FMCSA, DOT, 1200 New Jersey Avenue SE, Washington, DC 20590-0001, (202) 366-4001, fmcsamedical@dot.gov. Office hours are 8:30 a.m. to 5 p.m. ET Monday through Friday, except Federal holidays. If you have questions regarding viewing or submitting material to the docket, contact Dockets Operations, (202) 366-9826.

SUPPLEMENTARY INFORMATION:

I. Public Participation

A. Submitting Comments

If you submit a comment, please include the docket number for this notice (Docket No. FMCSA-2025-0027), indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to https://www.regulations.gov/docket/FMCSA-2025-0027. Next, choose the only notice listed, click the “Comment” button, and type your comment into the text box on the following screen. Choose whether you are submitting your comment as an individual or on behalf of a third party and then submit.

If you submit your comments by mail or hand delivery, submit them in an unbound format, no larger than 8½ by 11 inches, suitable for copying and electronic filing. FMCSA will consider all comments and material received during the comment period.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments

To view comments, go to www.regulations.gov, insert the docket number (FMCSA-2025-0027) in the keyword box and click “Search.” Next, choose the only notice listed, and click “Browse Comments.” If you do not have access to the internet, you may view the docket online by visiting Dockets Operations on the ground floor of the DOT West Building, 1200 New Jersey Avenue SE, Washington, DC 20590-0001, between 9 a.m. and 5 p.m. ET Monday through Friday, except Federal holidays. To be sure someone is there to help you, please call (202) 366-9317 or (202) 366-9826 before visiting Dockets Operations.

D. Privacy Act

In accordance with 49 U.S.C. 31315(b)(6), DOT solicits comments from the public on the exemption request. DOT posts these comments, including any personal information the commenter provides, to www.regulations.gov, as described in the system of records notice DOT/ALL-14 FDMS (Federal Docket Management System), which can be reviewed under the “Department Wide System of Records Notices” link at https://www.transportation.gov/individuals/privacy/privacy-act-system-records-notices. The comments are posted without edit and are searchable by the name of the submitter.

II. Legal Basis

FMCSA has authority under 49 U.S.C. 31136(e) and 31315(b) to grant exemptions from the Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)). FMCSA grants medical exemptions from the FMCSRs for a 2-year period to align with the maximum duration of a driver's medical certification.

III. Background

The physical qualification standard for drivers regarding hearing, found in 49 CFR 391.41(b)(11), states that a person is physically qualified to drive a CMV if that person first perceives a forced whispered voice in the better ear at not less than 5 feet with or without the use of a hearing aid or, if tested by use of an audiometric device, does not have an average hearing loss in the better ear greater than 40 decibels at 500 Hz, 1,000 Hz, and 2,000 Hz with or without a hearing aid when the audiometric device is calibrated to American National Standard (formerly ASA Standard) Z24.5—1951.

This standard was adopted in 1970 and was revised in 1971 to allow drivers to be qualified under this standard while wearing a hearing aid (35 FR 6458, 6463 (Apr. 22, 1970) and 36 FR 12857 (July 8, 1971)). In 2008, FMCSA published Evidence Report, “Executive Summary on Hearing, Vestibular Function and Commercial Motor Driving Safety.” ¹ The evidence report reached two conclusions regarding the matter of hearing loss and CMV driver safety: (1) no studies that examined the relationship between hearing loss and crash risk exclusively among CMV drivers were identified; and (2) evidence from studies of the private driver's license holder population does not support the contention that individuals with hearing impairment are at an increased risk for a crash.

¹ https://www.fmcsa.dot.gov/regulations/medical/hearing-vestibular-function-and-commercial-motor-vehicle-driver-safety-executive.

On February 1, 2013, FMCSA began granting exemptions, on a case-by-case basis, to individual drivers from the physical qualification standard regarding hearing in 49 CFR 391.41(b)(11) (78 FR 7479 (Feb. 1, 2013)). The Agency considers relevant scientific information and literature, the 2008 Evidence Report, “Executive Summary on Hearing, Vestibular Function and Commercial Motor Driving Safety,” any public comments received, and each individual's driving record in deciding whether to grant the exemption.

The 37 individuals listed in this notice have requested an exemption from the hearing standard in 49 CFR 391.41(b)(11). Accordingly, the Agency will evaluate the qualifications of each applicant to determine whether granting the exemption will achieve the required level of safety mandated by statute.

IV. Qualifications of Applicants

Flint Adams

Mr. Adams, 54, holds a class D driver's license in Wisconsin.

Ali Aljanabi

Mr. Aljanabi, 55, holds a class A commercial driver's license (CDL) in Ohio.

Sean Boasman

Mr. Boasman, 46, holds a class D driver's license in New Jersey.

Eduardo Bojorquez

Mr. Bojorquez, 28, holds a class C driver's license in California.

Cody Burks

Mr. Burks, 43, holds a class C driver's license in Texas.

Claudius Callwood

Mr. Callwood, 40, holds a class D driver's license in New York.

Gregory Carlson

Mr. Carlson, 37, holds a class A CDL in Kansas.

Michael Carter

Mr. Carter, 53, holds a class D driver's license in Vermont.

Che Cooper

Mr. Cooper, 55, holds a class C driver's license in California.

William Crump

Mr. Crump, 55, holds a class D driver's license in Arizona.

Michael Della Penna

Mr. Della Penna, 41, holds a class E driver's license in Florida.

Wilder Fils Aime

Mr. Fils Aime, 35, holds a class E driver's license in Florida.

Kristina Flores

Ms. Flores, 26, holds a class D driver's license in Massachusetts.

Rene Romero Gainza

Mr. Gainza, 57, holds a class C driver's license in California.

Brian Garcia Gomez

Mr. Garcia Gomez, 23, holds a class C driver's license in California.

Benjamin Geng

Mr. Geng, 41, holds a class R driver's license in Minnesota.

Desi Gonzales

Mr. Gonzales, 24, holds a class C driver's license in California.

Travis Haire

Mr. Haire, 35, holds a class D driver's license in Vermont.

William Harrison

Mr. Harrison, 35, holds a class D driver's license in Utah.

Stephen Hilsdon

Mr. Hilsdon, 48, holds a class A CDL in Massachusetts.

Joshua Johnson

Mr. Johnson, 31, holds a class CM driver's license in Texas.

Dylan Lewis

Mr. Lewis, 25, holds a class D driver's license in Delaware.

Bradley Mauney

Mr. Mauney, 36, holds a class C driver's license in North Carolina.

Carissa Mitchell

Ms. Mitchell, 37, holds a class C driver's license in Texas.

Riley Mueller

Mr. Mueller, 24, holds a class DM driver's license in Wisconsin.

Michael Musser

Mr. Musser, 38, holds a class A CDL in Pennsylvania.

Cynthia Osborne

Ms. Osborne, 61, holds a class C driver's license in Maryland.

Christopher Schreiber

Mr. Schreiber, 48, holds a class D driver's license in Oklahoma.

Wayne Sevon

Mr. Sevon, 62, holds a class AM CDL in South Carolina.

Jessica Smoot

Ms. Smoot, 38, holds a class CM1 driver's license in California.

Evgeny Tikhomirov

Mr. Tikhomirov, 44, holds a class C driver's license in Florida.

Wuilmer Vergara

Mr. Vergara, 39, holds a class D CDL in Utah.

Harvey Walden

Mr. Walden, 69, holds a class D driver's license in Oklahoma.

Marcos Watson

Mr. Watson, 46, holds a class D driver's license in South Carolina.

Leon Wesker

Mr. Wesker, 39, holds a class D driver's license in Wisconsin.

Sergey Yengoyan

Mr. Yengoyan, 32, holds a class C driver's license in California.

Michael Zanders

Mr. Zanders, 55, holds a class D driver's license in New York.

V. Request for Comments

In accordance with 49 U.S.C. 31136(e) and 31315(b), FMCSA requests public comment from all interested persons on the exemption applications described in this notice. FMCSA will consider all comments received before the close of business on the closing date indicated under the DATES section of the notice.

Larry W. Minor,
Associate Administrator for Policy.

[FR Doc. 2026-01680 Filed 1-27-26; 8:45 am]

BILLING CODE 4910-EX-P